DEPARTMENT OF THE INTERIOR

National Park Service

[NPS-WASO-NAGPRA-NPS0030682; PPWOCRADN0-PCU00RP14.R50000]

Notice of Inventory Completion: Michigan State University, East Lansing, MI

AGENCY: National Park Service, Interior.

ACTION: Notice.

SUMMARY: Michigan State University has completed an inventory of human remains and associated funerary objects, in consultation with the appropriate Indian Tribes or Native Hawaiian organizations and has determined that there is no cultural affiliation between the human remains and associated funerary objects and any present-day Indian Tribes or Native Hawaiian organizations. Representatives of any Indian Tribes or Native Hawaiian organization not identified in this notice that wish to request transfer of control of these human remains and associated funerary objects should submit a written request to Michigan State University. If no additional requestors come forward, transfer of control of the human remains and associated funerary objects to the Indian Tribes or Native Hawaiian organizations stated in this notice may proceed.

DATES: Representatives of any Indian Tribes or Native Hawaiian organization not identified in this notice that wish to request transfer of control of these human remains and associated funerary objects should submit a written request with information in support of the request to Michigan State University at the address in this notice by October 13, 2020.

FOR FURTHER INFORMATION CONTACT: Judith Stoddart, Associate Provost for University Collections and Arts Initiatives, Michigan State University, 466 W Circle Drive, East Lansing, MI 48824-1044, telephone (517) 432-2524, email stoddart@msu.edu.

SUPPLEMENTARY INFORMATION: Notice is here given in accordance with the Native American Graves Protection and Repatriation Act (NAGPRA), 25 U.S.C. 3003, of the completion of an inventory of human remains and associated funerary objects under the control of Michigan State University, East Lansing, MI. The human remains and associated funerary objects were removed from Arenac, Clinton, Huron, Iosco, and Midland Counties, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by Michigan State University professional staff in consultation with representatives of the Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as Huron Potawatomi, Inc.); Pokagon Band of Potawatomi Indians, Michigan and Indiana; Saginaw Chippewa Indian Tribe of Michigan; Sault Ste. Marie Tribe of Chippewa Indians, Michigan; and two non-federally recognized Indian groups, the Burt Lake Band of Ottawa and Chippewa Indians, and the Grand River Band of Ottawa Indians (hereafter referred to as “The Consulted Tribes and Groups”).

An invitation to consult was extended to the Absentee-Shawnee Tribe of Indians of Oklahoma; Bad River Band of the Lake Superior Tribe of Chippewa Indians of the Bad River Reservation, Wisconsin; Chippewa Cree Indians of the Rocky Boy's Reservation, Montana (previously listed as Chippewa-Cree Indians of the Rocky Boy's Reservation, Montana); Citizen Potawatomi Nation, Oklahoma; Delaware Nation, Oklahoma; Delaware Tribe of Indians; Eastern Shawnee Tribe of Oklahoma; Forest County Potawatomi Community, Wisconsin; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Little Shell Tribe of Chippewa Indians of Montana; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Ottawa Tribe of Oklahoma; Peoria Tribe of Indians of Oklahoma; Prairie Band Potawatomi Nation (previously listed as Prairie Band of Potawatomi Nation, Kansas); Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Seneca Nation of Indians (previously listed as Seneca Nation of New York); Seneca-Cayuga Nation (previously listed as Seneca-Cayuga Tribe of Oklahoma); Shawnee Tribe; Sokaogon Chippewa Community, Wisconsin; St. Croix Chippewa Indians of Wisconsin; Stockbridge Munsee Community, Wisconsin; Tonawanda Band of Seneca (previously listed as Tonawanda Band of Seneca Indians of New York); Turtle Mountain Band of Chippewa Indians of North Dakota; and the Wyandotte Nation, hereafter referred to as “The Invited Tribes.”

History and Description of the Remains

On August 14, 1971, human remains representing, at minimum, one individual were removed from the AuGres site (20AC19), AuGres Township, Arenac County, MI. The human remains (4321.1, 4321.2, 4321.3, 4321.4b, 4321.5) and associated funerary objects were encountered by a construction crew. On October 23, 1974, the human remains were transferred to the Michigan State University Museum. No known individual was identified. The 66 associated funerary objects are one lot of beads (4321), one seed bead (4321.1), one lot of a glass bottle fragments, one grommet (4321.1), one lot of kettle scrap (4321.1), one rolled piece of flat lead or pewter (4321.1), one lot of rusted iron fragments (4321.1), one lot of flakes (4321.2), one lot of sherds (4321.2), one lot of vessel fragments (4321.2), nine worked lithics (4321.2), one charcoal sample (4321.3), one retouched flake (4321.3), eight flakes (4321.3), one lot of snail shell fragments (4321.3), five lithics (4321.5), one core (4321.4a), 12 flakes (4321.4a), two retouched flakes (4321.4a), two glass bottles (4321.4a), one lot of flakes (4321.4b), 10 utilized flakes and a projectile point fragment (4321.4b), one lot of snail shell fragments (4321.4b), and two lots of soil samples (4321.4b).

In 1969, human remains representing, at minimum, 17 individuals were removed from the Cutler site (20CL108), Clinton County, MI. Michigan State University graduate student Marla Buckmaster removed the human remains (3477) from a gravel pit located on property owned by Neal Cutler. No known individuals were identified. The 32 associated funerary objects are 11 lots of carbon samples (3477), one flake, 15 lots of ceramic sherds, and five ceramic sherds.

During the spring of 1966, human remains representing, at minimum, six individuals were removed from the Matthews site (20CL61), Clinton County, MI. Clyde Anderson, a resident of St. Johns, removed the human remains, as well as associated funerary objects, while exploring the area in search of an early nineteenth-century Native American village. He reburied the human remains in the summer of 1966. Later in 1966, the Upper Grand Valley Chapter of the Michigan Archaeological Society (UGVC) re-excavated the human remains. In 1970, UGVC donated the human remains and associated funerary objects to Michigan State University. No known individuals were identified. The 93 associated funerary objects are one lot of bark, one lot of beads with metal, one lot of beads and string, four lots of seed beads, one lot of spun beads, one lot of blanket twill with silver brooch impressions, two lots of fabric, one lot of fabric (weave and fiber), one lot of fabric and seed beads, one lot of felt-like fabric, three individual fabrics, four lots of fiber, one fiber, one lot of iron fragments, one lot of iron pieces, two lots of iron nails, one lot of organic matter, one lot of silver, one lot of wood fragments, three armbands, one bauble, two blankets, one box of fragmentary wood containing feathers, one brooch fragment, two brooches with diamond holes, one ear bob, one ear wheel, four gorgets, eight gunflints, one jewelry made of pewter, two knives, one knife with handle, one piece of leather, one piece of knotted leather, one lithic, one piece of woven matting, one nail, one pail fragment, one pail rim fragment, nine photos, one silk scarf, two lead shots, one spoon, three strike-a-lites, one strike-a-lite fragment, six tacks, and six tubes. (One funerary object, a pipe, is missing from the collection.)

On an unknown date, human remains representing, at minimum, two individuals were removed from the Kleinfeld site, Huron County, MI, and were transferred to Michigan State University's Forensic Anthropology Laboratory. No known individuals were identified. The one associated funerary object is a lot of lithics.

On an unknown date, human remains representing, at minimum, one individual were removed from the Pinnebog site, which is believed to be in Huron County, MI. No known individual was identified. No associated funerary objects are present.

In 1980, human remains representing, at minimum, 11 individuals were removed from the Brandt site (20IS46), Oscoda Township, Iosco County, MI. The human remains (5279) were discovered by the property owner, William Brandt, during trenching construction. The site, which was turned out to be a Late Archaic burial ground cemetery, was then excavated by Ms. Barbara Mead, Assistant Archaeologist of the Michigan Bureau of History, and Michigan State University graduate student Robert Kingsley. Following excavation, the human remains were transferred to Michigan State University, where they underwent examination by Anthropology Professor Dr. Norman Sauer and graduate student David A. Barondess. On September 11, 2019, the State of Michigan transferred control of two associated funerary objects to Michigan State University. No known individuals were identified. The two associated funerary objects are two side-notched projectile points (20IS46-1 and 20IS46-2).

On June 30, 2017, human remains representing, at minimum, two individuals were removed from an unnamed site (20MD310), Midland County, MI. The human remains (FA 040-17-I-01, FA 040-17-I-02) were disturbed during the construction of a house foundation. Property owner Stephen Jenkins contacted the Michigan State Police, which assigned the human remains a case number (FA 040-17). On July 17, 2017, the human remains and an associated funerary object were transferred to Michigan State University's Forensic Anthropology Laboratory, where the remains were analyzed by Anthropology Professor Dr. Joseph Hefner. No known individuals were identified. The one associated funerary object is a hatchet head (FA-040-17).

Determinations Made by Michigan State University

Officials of Michigan State University have determined that:

• Pursuant to 25 U.S.C. 3001(9), the human remains described in this notice are Native American based on archeological context, biological evidence, and geographic location.

• Pursuant to 25 U.S.C. 3001(9), the human remains described in this notice represent the physical remains of 40 individuals of Native American ancestry.

• Pursuant to 25 U.S.C. 3001(3)(A), the 195 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Saginaw Chippewa Indian Tribe of Michigan.

• Treaties, Acts of Congress, or Executive Orders indicate that the land from which the Native American human remains and associated funerary objects were removed is the aboriginal land of the Bad River Band of the Lake Superior Tribe of Chippewa Indians of the Bad River Reservation, Wisconsin; Bay Mills Indian Community, Michigan; Chippewa Cree Indians of the Rocky Boy's Reservation, Montana (previously listed as Chippewa-Cree Indians of the Rocky Boy's Reservation, Montana); Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little Shell Tribe of Chippewa Indians of Montana; Minnesota Chippewa Tribe, Minnesota (Six component reservations: Bois Forte Band (Nett Lake); Fond du Lac Band; Grand Portage Band; Leech Lake Band; Mille Lacs Band; White Earth Band); Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; and the Turtle Mountain Band of Chippewa Indians of North Dakota.

• According to other authoritative government sources, the land from which the Native American human remains and associated funerary objects were removed is the aboriginal land of the Miami Tribe of Oklahoma; Sac & Fox Nation of Missouri in Kansas and Nebraska; Sac & Fox Nation, Oklahoma; and the Sac & Fox Tribe of the Mississippi in Iowa.

• Pursuant to 43 CFR 10.11(c)(1), the disposition of the human remains and associated funerary objects may be to the Bad River Band of the Lake Superior Tribe of Chippewa Indians of the Bad River Reservation, Wisconsin; Bay Mills Indian Community, Michigan; Chippewa Cree Indians of the Rocky Boy's Reservation, Montana (previously listed as Chippewa-Cree Indians of the Rocky Boy's Reservation, Montana); Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little Shell Tribe of Chippewa Indians of Montana; Miami Tribe of Oklahoma; Minnesota Chippewa Tribe, Minnesota (Six component reservations: Bois Forte Band (Nett Lake); Fond du Lac Band; Grand Portage Band; Leech Lake Band; Mille Lacs Band; White Earth Band); Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Sokaogon Chippewa Community, Wisconsin; St. Croix Chippewa Indians of Wisconsin; and the Turtle Mountain Band of Chippewa Indians of North Dakota (hereafter referred to as “The Tribes”).

Additional Requestors and Disposition

Representatives of any Indian Tribes or Native Hawaiian organization not identified in this notice that wish to request transfer of control of these human remains and associated funerary objects should submit a written request with information in support of the request to Judith Stoddart, Associate Provost for University Collections and Arts Initiatives, Michigan State University, 466 W Circle Drive, East Lansing, MI 48824-1044, telephone (517) 432-2524, email stoddart@msu.edu, by October 13, 2020. After that date, if no additional requestors have come forward, transfer of control of the human remains and associated funerary objects to The Tribes may proceed.

Michigan State University is responsible for notifying The Tribes, The Consulted Tribes and Groups, and The Invited Tribes that this notice has been published.

Dated: August 14, 2020.
Melanie O'Brien,
Manager, National Native American Graves Protection and Repatriation Act (NAGPRA) Program.

[FR Doc. 2020-20069 Filed 9-10-20; 8:45 am]

BILLING CODE 4312-52-P